ENVIRONMENTAL PROTECTION AGENCY

40 CFR Part 271

[EPA-R04-RCRA-2018-0529; FRL-9992-49-Region 4]

Alabama: Final Authorization of State Hazardous Waste Management Program Revisions

AGENCY: Environmental Protection Agency (EPA).

ACTION: Final authorization.

SUMMARY: The Environmental Protection Agency (EPA) is granting Alabama final authorization for changes to its hazardous waste program under the Resource Conservation and Recovery Act (RCRA). The Agency published a proposed rule on December 10, 2018 and provided for public comment. The Agency received three comments in support of authorizing the Alabama program changes. These comments can be reviewed in the docket for this action under Docket ID No. EPA-R04-RCRA-2018-0529. No further opportunity for comment will be provided.

DATES: This final authorization is effective April 19, 2019.

ADDRESSES: The EPA has established a docket for this action under Docket ID No. EPA-R04-RCRA-2018-0529. All documents in the docket are listed on the http://www.regulations.gov website. Certain other material, such as copyrighted material, is not placed on the internet and will be publicly available only in hard copy form. Publicly available docket materials are available electronically through http://www.regulations.gov.

FOR FURTHER INFORMATION CONTACT: Audrey E. Baker, Materials and Waste Management Branch, RCR Division, U.S. Environmental Protection Agency, Atlanta Federal Center, 61 Forsyth Street SW, Atlanta, Georgia 30303-8960; telephone number: (404) 562-8562; fax number: (404) 562-9964; email address: baker.audrey@epa.gov.

SUPPLEMENTARY INFORMATION:

A. What changes to Alabama's hazardous waste program is EPA authorizing with this action?

Alabama submitted final complete program revision applications, dated November 2, 2016 and May 11, 2018, seeking authorization of changes to its hazardous waste program in accordance with 40 CFR 271.21. EPA now makes a final decision that Alabama's hazardous waste program revisions that are being authorized are equivalent to, consistent with, and no less stringent than the Federal program, and therefore satisfy all of the requirements necessary to qualify for final authorization. For a list of State rules being authorized with this Final Authorization, please see the proposed rule published in the December 10, 2018 Federal Register at 83 FR 63461.

B. What is codification and is EPA codifying Alabama's hazardous waste program as authorized in this rule?

Codification is the process of placing citations and references to the State's statutes and regulations that comprise the State's authorized hazardous waste program into the Code of Federal Regulations. EPA does this by adding those citations and references to the authorized State rules in 40 CFR part 272. EPA is not codifying the authorization of Alabama's revisions at this time. However, EPA reserves the ability to amend 40 CFR part 272, subpart B for the authorization of Alabama's program changes at a later date.

C. Statutory and Executive Order Reviews

This final authorization revises Alabama's authorized hazardous waste management program pursuant to Section 3006 of RCRA and imposes no requirements other than those currently imposed by State law. For further information on how this authorization complies with applicable executive orders and statutory provisions, please see the Proposed Rule published in the December 10, 2018 Federal Register at 83 FR 63461. The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective April 19, 2019.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006, and 7004(b) of the Solid Waste Disposal Act as amended, 42 U.S.C. 6912(a), 6926, and 6974(b).

Dated: March 30, 2019.
Mary S. Walker,
Acting Regional Administrator, Region 4.

[FR Doc. 2019-07922 Filed 4-18-19; 8:45 am]

BILLING CODE 6560-50-P